SMALL BUSINESS ADMINISTRATION

Military Reservist Economic Injury Disaster Loans Interest Rate for First Quarter FY 2015

In accordance with the Code of Federal Regulations 13—Business Credit and Assistance § 123.512, the following interest rate is effective for Military Reservist Economic Injury Disaster Loans approved on or after October 17, 2014.

Military Reservist Loan Program—4.000%

Dated: October 16, 2014.
James E. Rivera,
Associate Administrator for Disaster Assistance.

[FR Doc. 2014-25070 Filed 10-21-14; 8:45 am]

BILLING CODE 8025-01-P